ENVIRONMENTAL PROTECTION AGENCY

[ER-FRL-6633-8]

Environmental Impact Statements and Regulations; Availability of EPA Comments

Availability of EPA comments prepared September 09, 2002 Through September 13, 2002 pursuant to the Environmental Review Process (ERP), under Section 309 of the Clean Air Act and Section 102(2)(c) of the National Environmental Policy Act as amended. Requests for copies of EPA comments can be directed to the Office of Federal Activities at (202) 564-7167 An explanation of the ratings assigned to draft environmental impact statements (EISs) was published in FR dated April 12, 2002 (67 FR 17992).

Draft EISs

ERP No. D-FHW-D40319-PA Rating EC2, Mon/Fayette Transportation Project, Improvements from PA-51 to I-376 in Monroeville and Pittsburg, Funding, U.S. Coast Guard Bridge Permit and US Army COE Section 404 Permit Issuance, Allegheny County, PA.

Summary: EPA expressed environmental concern regarding avoidance and minimization of project impacts to community and natural resources. NEPA history and cumulative impacts of the entire expressway should be provided in addition to the development of an acceptable mitigation plan.

ERP No. D-FHW-J40154-WY Rating EC2, US 287/26 Improvements Project, Moran Junction to 12 miles west of Dubois to where the roadway traverses thru the Bridger-Teton and Shoshone National Forests and Grand Teton National Park, NPDES and U.S. Army COE Section 404 Permits Issuance, Teton and Fremont Counties, WY.

Summary: EPA expressed environmental concern about the selection of an alternative that may not be the least damaging practicable alternative and would result in direct impacts to endangered species habitat and wetlands.

ERP No. DS-FHW-L40208-WA Rating 3, Cross-Base Highway Project, Updated Information concerning New Roadway Construction between I-5 at the Thorne Lane Interchange and WA-7 at 176th Street South, Major Investment Study (MIS) and US Army COE Section 404 Permit Issuance, Pierce County, WA.

Summary: EPA believes that the documentation for the proposal is inadequate. Major issues include the lack of a detailed mitigation plan and inadequate analysis and disclosure of information regarding project alternatives, western gray squirrel habitat, genetic studies, cumulative and secondary impacts and Environmental Justice.

Final EISs

ERP No. F-DOE-L08060-00 Wallula Power Project and Wallula-McNary Transmission Line Project, Construction and Operation, 1300 megawatt (MW) Natural Gas Fired Combustion Gas Turbine Facility and a new 500-kilovolt (kV) Transmission Line and Upgrade of the McNary Substation, U.S. COE Section 10 and 404 Permits, Walla-Walla Co., WA and Umatilla Co., OR.

Summary: No formal comment letter was sent to the preparing agency.

Dated: October 1, 2002.
Joseph C. Montgomery,
Director, NEPA Compliance Division, Office of Federal Activities.

[FR Doc. 02-25279 Filed 10-3-02; 8:45 am]

BILLING CODE 6560-50-P